ENVIRONMENTAL PROTECTION AGENCY

40 CFR Part 52

[EPA-R03-OAR-2012-0610; FRL-9770-6]

Approval and Promulgation of Air Quality Implementation Plans; Maryland; Reasonably Available Control Technology Requirements for Volatile Organic Compounds

AGENCY: Environmental Protection Agency (EPA).

ACTION: Final rule.

SUMMARY: EPA is approving a State Implementation Plan (SIP) revision submitted by the State of Maryland. These revisions pertain to the adoption of various test methods, calculations methods, work practice standards and exemptions which make Maryland Department of the Environment (MDE) regulations more consistent with EPA's Control Techniques Guidelines (CTGs) for seven source categories. These categories are: Paper, film, and foil coatings; industrial cleaning solvents; miscellaneous metal and plastic parts coatings; large appliance coatings; offset lithographic printing and letterpress printing; flat wood paneling coatings; and flexible package printing. EPA is approving these revisions to reduce volatile organic compound (VOC) emissions from these seven categories which will help Maryland attain and maintain the National Ambient Air Quality Standards (NAAQS) for ozone in accordance with the requirements of the Clean Air Act (CAA).

DATES: This final rule is effective on February 25, 2013.

ADDRESSES: EPA has established a docket for this action under Docket ID Number EPA-EPA-R03-OAR-2012-0610. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Christopher Cripps, (215) 814-2179, or by email at cripps.christoher@epa.gov.

SUPPLEMENTARY INFORMATION:

I. Background

On October 23, 2012 (77 FR 64787), EPA published a notice of proposed rulemaking (NPR) for the State of Maryland. The NPR proposed approval of revisions to Maryland regulations for the control of emissions of VOC from seven categories of sources covered by a CTG. The State of Maryland submitted the formal SIP revision (Revision No. 12-03) on April 4, 2012.

II. Summary of SIP Revision

On April 5, 2012, EPA received a SIP revision submittal from the Maryland Department of the Environment (MDE) which addressed sources of VOC emissions covered by EPA's CTGs for the following seven source categories: (1) Paper, film, and foil coatings; (2) industrial cleaning solvents; (3) miscellaneous metal and plastic parts coatings; (4) large appliance coatings; (5) offset lithographic printing and letterpress printing; (6) flat wood paneling coatings; and (7) flexible package printing. This SIP revision submittal included amended Regulation .04 “Testing and Monitoring” under COMAR 26.11.01 “General Administrative Provisions” (COMAR 26.11.01.04) and Regulation .02 “Applicability, Determining Compliance, Reporting and General Requirements” under COMAR 26.11.19 “Volatile Organic Compounds from Specific Processes” (COMAR 26.11.19.02). These amendments pertain to the adoption of various test methods, calculations methods, work practice standards and exemptions which make MDE's regulations more consistent with EPA's CTGs for these seven source categories.

An explanation of the CAA's reasonably available control technology (RACT) requirements for the 1997 8-hour ozone NAAQS as they apply to Maryland, the specific details of the amendments to COMAR 26.11.01.04 and COMAR 26.11.19.02 and EPA's rationale for approving this SIP revision were provided in the NPR and will not be restated here.

Only one set of comments was received during the comment period established by EPA's October 23, 2012 NPR. A summary of the comment and EPA's response is provided in Section III of this document.

III. Summary of Public Comment and EPA Response

These comments supported approving into the SIP MDE amendments to COMAR 26.11.01.04 and COMAR 26.11.19.02.

Comment:

In sum, the comments stated that these revisions to the Maryland SIP controlling VOC emissions from these seven different industries should be approved. The commenter agrees with all the amendments and stated that the “EPA should, without question, approve all of them. The amendments made to COMAR by the MDE only make the 7 industries safer and update their practices with VOC to be more in accordance with EPA's updated CTG for them under the CAA.”

Response:

EPA appreciates the support for this action.

IV. Final Action

EPA is approving as a revision to the Maryland SIP the amendments to COMAR 26.11.01.04 and COMAR 26.11.19.02 pertaining to the adoption of various test methods, calculations methods, work practice standards and exemptions for seven CTG source categories.

V. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by March 26, 2013. Filing a petition for reconsideration by the Administrator of this final rule does not affect the finality of this action for the purposes of judicial review nor does it extend the time within which a petition for judicial review may be filed, and shall not postpone the effectiveness of such rule or action. This action concerning Maryland's adoption of various test methods, calculations methods, work practice standards and exemptions in accordance with CTGs for VOC RACT may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: December 19, 2012.
W.C. Early,
Acting Regional Administrator, Region III.

40 CFR part 52 is amended as follows:

PART 52—APPROVAL AND PROMULGATION OF IMPLEMENTATION PLANS

1. The authority citation for part 52 continues to read as follows:

Authority: 42 U.S.C. 7401 et seq.

Subpart V—Maryland

2. In § 52.1070, the table in paragraph (c) is amended by revising the entries for COMAR 26.11.01.04 and 26.11.19.02 to read as follows:

§ 52.1070 Identification of plan.

* * * * *

(c) * * *

EPA-Approved Regulations, Technical Memoranda, and Statutes in the Maryland SIP
Code of Maryland administrative regulations (COMAR) citation | Title/subject | State effective date | EPA approval date | Additional explanation/ citation at 40 CFR 52.1100
26.11.01 General Administrative Provisions
* * * * * * *
26.11.01.04 | Testing and Monitoring | 3/5/12 | 1/25/13 [Insert page number where the document begins] | Amended section 04C.
* * * * * * *
26.11.19 Volatile Organic Compounds From Specific Processes
* * * * * * *
26.11.19.02 | Applicability, Determining Compliance, Reporting, and General Requirements | 3/5/12 | 1/25/13 [Insert page number where the document begins] | Amended sections .02D, .02E, .02G and .02I.
* * * * * * *

[FR Doc. 2013-00839 Filed 1-24-13; 8:45 am]

BILLING CODE 6560-50-P